DEPARTMENT OF THE INTERIOR

Bureau of Land Management

[LLNVC01000.L19200000.ET0000; LRORF1911800; MO#4500160540]

Public Land Order No. 7909; Extension of Public Land Order No. 7873; Withdrawal for Land Management Evaluation Purposes, and Correction of Legal Land Description; Nevada

AGENCY: Bureau of Land Management, Interior.

ACTION: Public land order.

SUMMARY: This order extends the duration of the withdrawal created by Public Land Order (PLO) No. 7873 for an additional 4-year term. The withdrawal created by PLO No. 7873 expires on August 23, 2022. This order continues the withdrawal of 694,838.84 acres of public land in Churchill, Lyon, Mineral, Nye, and Pershing Counties, Nevada from all forms of appropriation under the public land laws, including location and entry under the United States mining laws, and leasing under the mineral and geothermal leasing laws, subject to valid existing rights, for 4 years for land management evaluation purposes. In addition, 68,809.44 acres of Federal land in the Dixie Valley area (Churchill County, Nevada) continues to be withdrawn from leasing under the mineral leasing laws. Including the 8,722.47 acres of Department of the Navy (DON) lands, the total Federal land continue to be withdrawn by this Public Land Order is 772,370.75 acres. Non-Federal lands totaling 66,160.53 acres are described within the withdrawal area. Any current or future Federal estate interest in these non-Federal lands is subject to this withdrawal. Additionally, this Order corrects a portion of the legal land description published in the Federal Register on August 31, 2018.

DATES: This PLO takes effect on August 23, 2022.

FOR FURTHER INFORMATION CONTACT: Colleen Dingman, BLM, Carson City District Office, (775) 885-6168; address: 5665 Morgan Mill Road, Carson City, NV 89701; email: cjdingman@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Federal Register Correction

In the Federal Register of August 31, 2018 (83 FR 44654), on page 44657, in the third column, correct Sec. 24 to read as follows:

Sec. 24, those portions of lots 1 and 2 lying north of the southerly line of a dirt road, and lots 3 thru 6, and 11 thru 14.

Extension of Duration of Withdrawal

PLO No. 7873 withdrew 694,838.84 acres of Federal land in Churchill, Lyon, Mineral, Nye, and Pershing Counties, Nevada, for up to 4 years from all forms of appropriation under the public land laws, including location and entry under the United States mining laws, and leasing under the mineral and geothermal leasing laws, subject to valid existing rights. The purpose of this withdrawal extension is to maintain the current environmental baseline, relative to mining, mineral exploration and development, and geothermal energy development for land management evaluation purposes. The extension of PLO No. 7873 includes 68,809.44 acres of Federal land in the Dixie Valley Training Area from the mineral leasing laws (not currently withdrawn from these laws under Section 3016 of the NDAA for Fiscal Year 2000, Pub. L. 106-65), to maintain the current environmental baseline, relative to mineral exploration and development for land management evaluation purposes, subject to valid existing rights.

Including the 8,722.47 acres of Department of the Navy (DON) lands, the total Federal land included in the withdrawal extension is 772,370.75 acres. Non-Federal lands totaling 66,160.53 acres are described within the withdrawal area. Any current or future Federal estate interest in these non-Federal lands is subject to this withdrawal.

The purpose for which the withdrawal was first made requires this extension because the BLM and the DON are engaged in the evaluation of issues relating to possible future legislative transfer of the subject land to the jurisdiction of the DON in connection with the DON's modernization of Naval Air Station Fallon, Fallon Range Training Complex, Nevada (FRTC). The DON anticipates requesting a legislative withdrawal of these additional lands and requested that the Department of the Interior extend PLO No. 7873 withdrawal an additional 4 years. PLO No. 7873 is incorporated by reference (83 FR 44654).

Order

By virtue of the authority vested in the Secretary of the Interior by Section 204 of the Federal Land Policy and Management Act of 1976, 43 U.S.C. 1714, it is ordered as follows:

1. Subject to valid existing rights, PLO No. 7873, which withdrew 694,838.84 acres of public land from all forms of appropriation under the public land laws and 68,809.44 acres of Federal land in the Dixie Valley area from leasing under the mineral leasing laws, including the 8,722.47 acres of Department of the Navy (DON) lands, totaling 772,370.75 acres of Federal land is hereby extended for an additional 4-year period. Non-Federal lands totaling 66,160.53 acres are described within the withdrawal area. Any current or future Federal estate interest in these non-Federal lands is subject to this withdrawal extension.

2. The withdrawal extended by this order will expire on August 23, 2026, unless, as a result of review conducted before the expiration date pursuant to Section 204(f) of the Federal Land Policy and Management Act of 1976, 43 U.S.C. 1714 (f), the Secretary determines that the withdrawal shall be further extended.

(Authority: 43 U.S.C. 1714)

Tanya Trujillo,
Assistant Secretary for Water and Science.

[FR Doc. 2022-13430 Filed 6-29-22; 8:45 am]

BILLING CODE 4310-HC-P